DEPARTMENT OF COMMERCE

National Oceanic and Atmospheric Administration

[I.D. 051500A]

Marine Mammals; File No. 782-1446

AGENCY: National Marine Fisheries Service (NMFS), National Oceanic and Atmospheric Administration (NOAA), Commerce.

ACTION: Receipt of application for amendment.

SUMMARY: Notice is hereby given that Alaska Fisheries Science Center, National Marine Mammal Laboratory, 7600 Sand Point Way, NE, Seattle, WA 98115 has requested an amendment to scientific research Permit No. 782-1446.

DATES: Written or telefaxed comments must be received on or before June 21, 2000.

ADDRESSES: The amendment request and related documents are available for review upon written request or by appointment in the following office(s):

Permits and Documentation Division, Office of Protected Resources, NMFS, 1315 East-West Highway, Room 13705, Silver Spring, MD 20910 (301/713-2289);

Alaska Region, National Marine Fisheries Service, NOAA, P.O. Box. 21668, Juneau, AK 99802-1668 (907/586-7221); and

Northwest Region, National Marine Fisheries Service, NOAA, 7600 Sand Point Way, NE, BIN C15700, Seattle, WA 98115-0070 (206/526-6150).

Southwest Region, National Marine Fisheries Service, NOAA,501 West Ocean Blvd., Suite 4200, Long Beach, CA 90802-4213 (562/980-4021).

Written comments or requests for a public hearing on this request should be submitted to the Chief, Permits and Documentation Division, F/PR1, Office of Protected Resources, NMFS, 1315 East-West Highway, Room 13130, Silver Spring, MD 20910. Those individuals requesting a hearing should set forth the specific reasons why a hearing on this particular amendment request would be appropriate.

Comments may also be submitted by facsimile at (301) 713-0376, provided the facsimile is confirmed by hard copy submitted by mail and postmarked no later than the closing date of the comment period. Please note that comments will not be accepted by e-mail or other electronic media.

FOR FURTHER INFORMATION CONTACT: Simona Roberts or Ruth Johnson, 301/713-2289.

SUPPLEMENTARY INFORMATION: The subject amendment to Permit No. 782-1446, issued on May 8, 1998 (63 FR 27265) is requested under the authority of the Marine Mammal Protection Act of 1972, as amended (16 U.S.C. 1361 et seq.), the Regulations Governing the Taking and Importing of Marine Mammals (50 CFR part 216), the Endangered Species Act of 1973, as amended (16 U.S.C. 1531 et seq.), and the regulations governing the taking, importing, and exporting of endangered and threatened species (50 CFR 222-226).

Permit No. 782-1446 authorizes the permit holder to conduct aerial, ground and boat surveys annually for stock assessment of harbor seals (Phoca vitulina), California sea lions (Zalophus californianus), Steller sea lions (Eumetopias jubatus), and northern elephant seals (Mirounga angustirostris). The permit holder requests authorization to amend this permit to chemically immobilize adult male California sea lions in Oregon, Washington, and California for the removal of Satellite-Linked Time Depth Recorders (SLTDR).

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: May 15, 2000.
Ann Terbush,
Chief, Permits and Documentation Division, Office of Protected Resources, National Marine Fisheries Service.

[FR Doc. 00-12837 Filed 5-19-00; 8: 45 am]

BILLING CODE 3510-22-F